DEPARTMENT OF VETERANS AFFAIRS

[OMB Control No. 2900-XXXX]

Agency Information Collection Activity Under OMB Review: Request for Retroactive Induction for a Period Previously Completed Under Chapter 33 (Chapter 31—Veteran Readiness and Employment)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-XXXX.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-XXXX” in any correspondence.

SUPPLEMENTARY INFORMATION:

Authority: 38 U.S.C. 3102, 3103, 3108, 5113.

Title: Request For Retroactive Induction For A Period Previously Completed Under Chapter 33 (Chapter 31—Veteran Readiness and Employment), VA form 28-10286.

OMB Control Number: 2900-XXXX.

Type of Review: Request for approval of a new collection.

Abstract: The Department of Veterans Affairs (VA) through its Veterans Benefits Administration (VBA) administers an integrated program of benefits and services, established by law, for Veterans, service personnel, and their dependents and/or beneficiaries. Title 38 U.S.C. 5101(a) provides that a specific claim in the form provided by the Secretary must be filed for benefits to be paid to any individual under the laws administered by the Secretary. Additionally, 38 U.S.C. 501(a) provides VA the authority to collect this information. VA Form (VAF) 28-10286, Request For Retroactive Induction for a Period Previously Completed Under Chapter 33, collects information that the Veteran Readiness and Employment (VR&E) program needs to verify if a Service member or Veteran meets the criteria for retroactive induction for a period previously completed under Chapter 33 (38 U.S.C. 3102, 3103, 3108, 5113).

An agency may not conduct or sponsor, and a person is not required to respond to a collection of information unless it displays a currently valid OMB control number. The Federal Register Notice with a 60-day comment period soliciting comments on this collection of information was published at insert citation date: 88 FRN 42818 on July 3, 2023, page 42818.

Affected Public: Individuals or Households.

Estimated Annual Burden: 33,000 hours.

Estimated Average Burden per Respondent: 20 minutes.

Frequency of Response: On occasion.

Estimated Number of Respondents: 99,000.

By direction of the Secretary.
Maribel Aponte,
VA PRA Clearance Officer, Office of Enterprise and Integration, Data Governance Analytics, Department of Veterans Affairs.

[FR Doc. 2023-19394 Filed 9-7-23; 8:45 am]

BILLING CODE 8320-01-P